DEPARTMENT OF ENERGY

Federal Energy Regulatory Commission

[Docket No. RP96-359-013]

Transcontinental Gas Pipe Line Corporation; Notice of Negotiated Rates

January 9, 2003.

Take notice that on December 31, 2002, Transcontinental Gas Pipe Line Corporation (Transco) tendered for filing two executed service agreements between Transco and BP Energy Company that contain negotiated rates under Transco's Rate Schedule FT.

Transco states that these service agreements are the result of the permanent releases of two service agreements containing negotiated rates previously filed by Transco pertaining to its MarketLink and Leidy East Expansion Projects. Aquila Energy Marketing (Aquila), one of Transco's MarketLink and Leidy East shippers, agreed to permanently release all of its firm MarketLink transportation service (25,000 dekatherms of gas per day) and all of its firm Leidy East transportation service (25,000 dekatherms of gas per day) to BP Energy Company effective January 1, 2003, at the same negotiated rates and primary term contained in Aquila's existing service agreements. For both service agreements, the effective date of the permanent release is January 1, 2003.

Transco states that copies of the filing are being mailed to its affected customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 13, 2003.
Magalie R. Salas,
Secretary.

[FR Doc. 03-890 Filed 1-14-03; 8:45 am]

BILLING CODE 6717-01-P